DEPARTMENT OF TRANSPORTATION

Federal Aviation Administration

Aviation Rulemaking Advisory Committee Meeting on Air Carrier Operations

AGENCY: Federal Aviation Administration (FAA) DOT.

ACTION: Notice of meeting.

SUMMARY: The FAA is issuing this notice to advise the public of a meeting of the Federal Aviation Administration Aviation Rulemaking Advisory Committee on Air Carrier Operations Issues to receive and discuss the final report from the Extended Operations for Multi-engine Airplanes Working Group.

DATE: The meeting will be held on December 16, 2002, at 10:00 a.m.

ADDRESSES: The meeting will be held in Conference Room 833, Federal Office Building 10A (the “FAA Building”), 800 Independence Ave., SW., Washington, DC, 20591.

FOR FURTHER INFORMATION CONTACT: Linda Williams, Office of Rulemaking, 800 Independence Avenue, SW, Washington, DC 20591, telephone (202) 267-9685; e-mail linda.l.williams@faa.gov.

SUPPLEMENTARY INFORMATION: Pursuant to section 10(a)(2) of the Federal Advisory Committee Act (Pub. L. 92-463, 5 U.S.C. App II), notice is hereby given of a meeting of the Aviation Rulemaking Advisory Committee on Air Carrier Operations to be held on December 16, 2002.

The agenda will include a final report from the Extended Operations (ETOPS) for Multi-engine Airplanes Working Group. The final report of the working group was forwarded to the members of the Air Carrier Operations Issues Group on October 30, 2002, for review. The meeting on December 16, 2002, will constitute the final action of the ETOPS working group.

Attendance is open to the interested public but may be limited by the space available. Members of the public must make arrangements in advance to present oral statements at the meeting or may present written statements to the committee at any time. Arrangements may be made by contacting the person listed under the heading FOR FURTHER INFORMATION CONTACT.

Sign and oral interpretation can be made available at the meeting, as well as an assistive listening device, if requested 10 calendar days before the meeting.

If you are in need of assistance or require a reasonable accommodation for this event, please contact the person listed under FOR FURTHER INFORMATION CONTACT.

Issued in Washington, DC, on November 6, 2002.
Matthew Schack,
Assistant Executive Director for Air Carrier Operations, Aviation Rulemaking Advisory Committee.

[FR Doc. 02-28835 Filed 11-12-02; 8:45 am]

BILLING CODE 4910-13-P